DEPARTMENT OF STATE

[Public Notice 4070]

M/DGHR/MED/EX; 30-Day Notice of Proposed Information Collection: Form DS-1843, Medical History and Examination for Foreign Service—Persons 12 Years and Over; Form DS-1622, Medical History and Examination for Foreign Service—For Children 11 Years and Under; OMB Number 1405-0068

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Extension of a current collection.

Originating Office: Office of Medical Services, M/DGHR/MED.

Title of Information Collection: Medical History and Examination for Foreign Service Persons 12 Years and Over; Medical History and Examination for Foreign Service—For Children 11 Years and Under.

Frequency: Biennially.

Form Numbers: DS-1843 and DS-1622.

Respondents: Candidates for Foreign Service Positions and their Eligible Family Members.

Estimated Number of Respondents: 12,000.

Average Hours Per Response: One Hour.

Total Estimated Burden: 12,000.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from John A. Triplett, M.D., Office of Medical Services, 2401 E Street, NW., U.S. Department of State, Washington, DC 20522, telephone 202-663-1680. Public comments and questions should be directed to the State Department Desk Officer, Office of Information and Regulatory Affairs, Office of Management and Budget (OMB), Washington, DC 20530, who may be reached on 202-395-3897.

Dated: July 7, 2002.
Maria C. Melchiorre,
Acting Executive Director, Office of Medical Services, Department of State.

[FR Doc. 02-18724 Filed 7-23-02; 8:45 am]

BILLING CODE 4710-36-P